DEPARTMENT OF COMMERCE

National Oceanic and Atmospheric Administration

RIN 0648-XH065

Gulf of Mexico Fishery Management Council; Public Meeting

AGENCY: National Marine Fisheries Service (NMFS), National Oceanic and Atmospheric Administration (NOAA), Commerce.

ACTION: Notice of a public meeting (webinar).

SUMMARY: The Gulf of Mexico Fishery Management Council will hold a public hearing via webinar to discuss Reef Fish Amendment 51—Gray Snapper Status Determination Criteria, Reference Points, and Annual Catch Limits.

DATES: The webinar will be held on Wednesday, July 17, 2019, 6 p.m. EDT; and, will conclude no later than 9 p.m.

ADDRESSES: The public hearing will be held via webinar. You may register for the webinar by visiting www.gulfcouncil.org and clicking on the meeting on the calendar.

Council address: Gulf of Mexico Fishery Management Council, 4107 W Spruce Street, Suite 200, Tampa, FL 33607; telephone: (813) 348-1630.

FOR FURTHER INFORMATION CONTACT: Emily Muehlstein, Public Information Officer, Gulf of Mexico Fishery Management Council; emily.muehlstein@gulfcouncil.org, telephone: (813) 348-1630. The Council's website, www.gulfcouncil.org.

SUPPLEMENTARY INFORMATION: Council staff will brief the public on the purpose and need of the amendment. The actions in the document will set values that will be used to determine stock status for gray snapper and adjust the annual catch limits. The status determination criteria being considered include Maximum Sustainable Yield Proxy, Maximum Fishing Mortality Threshold, Minimum Stock Size Threshold, and Optimum Yield for gray snapper.

Wednesday, July 17, 2019; 6 p.m.-9 p.m.

The meeting will be held via webinar. You may register for the webinar by visiting www.gulfcouncil.org and clicking on the meeting on the calendar. The agenda is subject to change, and the latest version along with other meeting materials will be posted on as they become available.

—Meeting Adjourns

The meeting will be broadcast via webinar. You may register for the listen-in access by visiting www.gulfcouncil.org and clicking on the AP meeting on the calendar.

The Agenda is subject to change, and the latest version along with other meeting materials will be posted on www.gulfcouncil.org as they become available.

Dated: June 19, 2019.
Tracey L. Thompson,
Acting Deputy Director, Office of Sustainable Fisheries, National Marine Fisheries Service.

[FR Doc. 2019-13353 Filed 6-21-19; 8:45 am]

BILLING CODE 3510-22-P